DEPARTMENT OF COMMERCE

National Oceanic and Atmospheric Administration

RIN 0648-XC731

Caribbean Fishery Management Council; Scoping Meetings Correction

AGENCY: National Marine Fisheries Service (NMFS), National Oceanic and Atmospheric Administration (NOAA), Commerce.

ACTION: Notice of correction to a public scoping meeting.

SUMMARY: The Caribbean Fishery Management Council will hold scoping meetings to obtain input from fishers, the general public, and the local agencies representatives on the development of island-specific fishery management plans for Puerto Rico, St. Thomas/St. John, USVI and St. Croix, USVI.

DATES AND ADDRESSES: Due to the tropical storm Chantel the scoping meetings in these locations could not be held. The rescheduled scoping meetings will be held on the following dates and locations:

In Puerto Rico:

August 5, 2013—7 p.m.-10 p.m.—Mayaguez Resort & Casino, Route 104, Km 0.3, Mayagüez 00680, Puerto Rico

August 6, 2013—7 p.m.-10 p.m.—at the Holiday Inn Ponce & Tropical Casino, 3315 Ponce By Pass, Ponce, Puerto Rico.

In the U.S. Virgin Islands:

August 5, 2013—7 p.m.-10 p.m.—Windward Passage Hotel, Charlotte Amalie, St. Thomas, U.S. Virgin Islands.

FOR FURTHER INFORMATION CONTACT: Caribbean Fishery Management Council, 270 Muñoz Rivera Avenue, Suite 401, San Juan, Puerto Rico 00918-1903, telephone: (787) 766-5926.

SUPPLEMENTARY INFORMATION: The original notice published in the Federal Register on July 22, 2013 (78 FR 43860). This notice corrects the date for the meeting in the U.S. Virgin Islands. The date was published as August 6th but should be August 5, 2013. All other previously-published information remains unchanged.

Dated: July 29, 2013.
Tracey L. Thompson,
Acting Deputy Director, Office of Sustainable Fisheries, National Marine Fisheries Service.

[FR Doc. 2013-18487 Filed 7-31-13; 8:45 am]

BILLING CODE 3510-22-P